DEPARTMENT OF TRANSPORTATION

Federal Transit Administration

[FTA Docket No. FTA-2009-0047]

Agency Information Collection Activity Under OMB Review

AGENCY: Federal Transit Administration, DOT.

ACTION: Notice of request for comments.

SUMMARY: The Federal Transit Administration invites public comment about our intention to request the Office of Management and Budget's (OMB) approval of the following new information collection: Over-the-Road Bus (OTRB) Accessibility Program (OMB Number 2132-NEW).

The information to be collected for this program will be used to determine the applicant's eligibility to receive the program funds and to manage the program. The Federal Register Notice with a 60-day comment period soliciting comments was published on June 29, 2009.

DATES: Comments must be submitted before October 16, 2009. A comment to OMB is most effective if OMB receives it within 30 days of publication.

FOR FURTHER INFORMATION CONTACT: Sylvia L. Marion, Office of Administration, Office of Management Planning, (202) 366-6680.

SUPPLEMENTARY INFORMATION: Title: Over-the-Road Bus (OTRB) Accessibility Program.

Abstract: The OTRB Accessibility Program is authorized under Section 3038 of the Transportation Equity Act for the 21st Century (TEA-21), Public Law 105-85, as amended by the Safe, Accountable, Flexible, Efficient, Transportation Equity Act: A Legacy for Users SAFETEA-LU), Public Law 109-059, August 10, 2005. OTRBs are used in intercity fixed-route service as well as other services, such as commuter, charter and tour bus services. These services are an important element of the U.S. transportation system. TEA-21 authorized FTA's OTRB Accessibility Program to assist OTRB operators in complying with the Department's OTRB Accessibility regulation, “Transportation for Individuals with Disabilities” (49 CFR part 37, Subpart H). The legislative intent of this grant program is to increase the number of wheelchair accessible OTRBs available to persons with disabilities throughout the country.

Estimated Total Annual Burden: 4,800 hours.

ADDRESSES: All written comments must refer to the docket number that appears at the top of this document and be submitted to the Office of Information and Regulatory Affairs, Office of Management and Budget, 725 17th Street, NW., Washington, DC 20503, Attention: FTA Desk Officer.

Comments Are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: September 10, 2009.
Ann M. Linnertz,
Associate Administrator for Administration.

[FR Doc. E9-22321 Filed 9-15-09; 8:45 am]

BILLING CODE 4910-57-P